DEPARTMENT OF VETERANS AFFAIRS

Veterans' Family, Caregiver, and Survivor Advisory Committee, Notice of Meeting

The Department of Veterans Affairs (VA) gives notice under the Federal Advisory Committee Act (FACA), 5 U.S.C., App. 2, that the Veterans' Family, Caregiver and Survivor Advisory Committee will meet in-person on January 25-26, 2023. The meeting will be held at the American Red Cross, 430 17th Street NW, Washington, DC 20006. The meeting sessions will begin and end as follows:

Date | Time
January 25, 2023 | 9 a.m. to 4:30 p.m. EST.
January 26, 2023 | 9 a.m. to 2 p.m. EST.

The meetings are open to the public.

The purpose of the Committee is to advise the Secretary of Veterans Affairs on matters related to: the need of Veterans' families, caregivers and survivors across all generations, relationships, and Veterans status; the use of VA care, benefits and memorial services by Veterans' families, caregivers and survivors, and opportunities for improvements to the experience using such services; VA policies, regulations, and administrative requirements related to the transition of Servicemembers from the Department of Defense (DoD) to enrollment in VA that impact Veterans' families, caregivers and survivors; and factors that influence access to, quality of, and accountability for services, benefits and memorial services for Veterans' families, caregivers and survivors.

On Wednesday, January 25 and Thursday, January 26, 2023, the agenda will include opening remarks from the Committee Chair and the Chief Veterans Experience Officer. There will be updates on the Caregiver Support Program, PACT Act and briefings by the subcommittee chairs on the proposed recommendations for approval by the Committee.

Time will be allocated for receiving public comments on January 25, 2023, 3:30 p.m. to 4:30 p.m. EST. Individuals wishing to make public comments should contact Dr. Betty Moseley Brown at (210) 392-2505 or at VEOFACA@va.gov and are requested to submit a 1-2 page summary of their comments for inclusion in the official meeting record. In the interest of time, each speaker will be held to a 5-minute time limit. The Committee will accept written comments from interested parties on issued outlined in the meeting agenda until Friday, January 20, 2023 at 5 p.m. EST. Each public speaker will receive a confirmed time for speaking via email from the Designated Federal Official.

Members of the public interested in attending should submit their name to VEOFACA@va.gov by Friday, January 20, 2023, to help expedite the sign-in process. Any member of the public seeking additional information should contact Betty Moseley Brown, Designated Federal Official, at Betty.MoseleyBrown@va.gov or (210) 392-2505.

Dated: December 12, 2022.
Jelessa M. Burney,
Federal Advisory Committee Management Officer.

[FR Doc. 2022-27243 Filed 12-15-22; 8:45 am]

BILLING CODE P